DEPARTMENT OF THE TREASURY

Agency Information Collection Activities; Submission for OMB Review; Comment Request; Multiple Internal Revenue Service Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before October 27, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Internal Revenue Service (IRS)

1. Title: Election To Postpone Determination as to Whether the Presumption Applies That an Activity Is Engaged in for Profit.

OMB Control Number: 1545-0195.

Type of Request: Extension without change of a currently approved collection.

Description: This form is used by individuals, partnerships, estates, trusts, and S corporations to make an election to postpone an IRS determination as to whether an activity is engaged in for profit for 5 years (7 years for breeding, training, showing, or racing horses). The data is used to verify eligibility to make the election.

Form: 5213.

Affected Public: Businesses and other for-profit organizations.

Estimated Number of Respondents: 3,541.

Frequency of Response: Annually.

Estimated Total Number of Annual Responses: 3,541.

Estimated Time per Response: 47 minutes.

Estimated Total Annual Burden Hours: 2,762 hours.

2. Title: Application for Automatic Extension of Time To File Certain Business Income Tax, Information, and Other Returns.

OMB Control Number: 1545-0233.

Type of Request: Extension without change of a currently approved collection.

Description: Taxpayers use Form 7004 to request an extension of time to file certain business, estate, trust, excise, tax-exempt, and information returns. The form does not extend the time to pay tax and is also used to determine the estimated tax due.

Form: 7004.

Affected Public: Businesses and other for-profit organizations.

Estimated Number of Respondents: 1,818,037.

Frequency of Response: On occasion.

Estimated Total Number of Annual Responses: 1,818,037.

Estimated Time per Response: 6 hours, 47 minutes.

Estimated Total Annual Burden Hours: 12,326,291.

3. Title: Disclosure of Reportable Transactions.

OMB Control Number: 1545-0865.

Type of Request: Businesses and other for-profit organizations.

Description: Internal Revenue Code (IRC) 6111 requires a sub-set of promoters called “material advisors” to disclose information about the promotion of certain types of transactions called “reportable transactions.” Material advisors to any reportable transaction must disclose certain information about the reportable transaction by filing a Form 8918 with the IRS. Material advisors who file a Form 8918 will receive a reportable transaction number from the IRS. Material advisors must provide the reportable transaction number to all taxpayers and material advisors for whom the material advisor acts as a material advisor.

Form: 8918.

Affected Public: Businesses and other for-profit organizations.

Estimated Number of Respondents: 2,279.

Frequency of Response: On occasion.

Estimated Total Number of Annual Responses: 2,279.

Estimated Time per Response: 16 hours, 30 minutes.

Estimated Total Annual Burden Hours: 37,627.

4. Title: Return of Excise Tax on Undistributed Income of Real Estate Investment Trusts.

OMB Control Number: 1545-1013.

Type of Request: Revision of currently approved collection.

Description: Form 8612 is used by real estate investment trusts to compute and pay the excise tax on undistributed income imposed under section 4981. The IRS uses the information to verify that the correct amount of tax has been reported.

Form: 8612.

Affected Public: Businesses and other for-profit organizations.

Estimated Number of Respondents: 20.

Frequency of Response: On occasion.

Estimated Total Number of Annual Responses: 20.

Estimated Time per Response: 9 hours, 48 minutes.

Estimated Total Annual Burden Hours: 196.

5. Title: Return of Excise Tax on Undistributed Income of Regulated Investment Companies.

OMB Control Number: 1545-1016.

Type of Request: Revision of a currently approved collection.

Description: Form 8613 is used by regulated investment companies to compute and pay the excise tax on undistributed income imposed under section 4982. The IRS uses the information to verify that the correct amount of tax has been reported.

Form: 8613.

Affected Public: Businesses and other for-profit organizations.

Estimated Number of Respondents: 1,500.

Frequency of Response: Annually.

Estimated Total Number of Annual Responses: 1,500.

Estimated Time per Response: 11 hours, 53 minutes.

Estimated Total Annual Burden Hours: 17,820.

6. Title: Application for Withholding Certificate for Dispositions by Foreign Persons of U.S. Real Property Interests.

OMB Control Number: 1545-1060.

Type of Request: Extension without change of a currently approved collection.

Description: Form 8288-B is used to apply for a withholding certification from the IRS to reduce or eliminate the withholding required by IRC section 1445.

Form: 8288-B.

Affected Public: Businesses and other for-profit organizations.

Estimated Number of Respondents: 2,600.

Frequency of Response: On occasion.

Estimated Total Number of Annual Responses: 2,600.

Estimated Time per Response: 5 hours, 46 minutes.

Estimated Total Annual Burden Hours: 14,976.

7. Title: Taxation of Gain or Loss From Certain Nonfunctional Currency Transactions (Section 988 Transactions).

OMB Control Number: 1545-1131.

Type of Request: Extension without change of a currently approved collection.

Description: This collection contains final regulations regarding the taxation of gain or loss from certain foreign currency transactions under Internal Revenue Code (IRC) section 988 and applies to taxpayers engaging in such transactions.

Regulation Project Number: TD 8400.

Affected Public: Businesses and other for-profit organizations.

Estimated Number of Respondents: 5,000.

Frequency of Response: Annually.

Estimated Total Number of Annual Responses: 5,000.

Estimated Time per Response: 40 minutes.

Estimated Total Annual Burden Hours: 3,333.

8. Title: Section 6662—Imposition of the Accuracy-Related Penalty.

OMB Control Number: 1545-1426.

Type of Request: Extension without change of a currently approved collection.

Description: Section 6662(e) of the Internal Revenue Code (“Code”) defines a substantial valuation misstatement under Chapter 1 of the Code for purposes of the accuracy related penalty imposed under section 6662(a). The penalty is imposed on underpayments of tax, including those caused by a substantial valuation misstatement for transactions subject to section 482. Section 6662(e)(3)(B) provides, in general, that certain adjustments are excluded in determining whether the penalty applies if a taxpayer demonstrates that it followed certain requirements in analyzing its transfer pricing, documented that analysis, and provided that documentation to the IRS upon request. Consistent with the statute, these regulations require that taxpayers contemporaneously document their transfer pricing analysis, notify the IRS of the use of certain methods for determining an arm's length price, and provide that documentation to the IRS upon request.

Regulation Project Number: TD 8656.

Affected Public: Businesses and other for-profit organizations.

Estimated Number of Respondents: 2,500.

Frequency of Response: Annually.

Estimated Total Number of Annual Responses: 2,500.

Estimated Time per Response: 8 hours, 3 minutes.

Estimated Total Annual Burden Hours: 20,125.

9. Title: Conduit Arrangements Regulations.

OMB Control Number: 1545-1440.

Type of Request: Extension without change of a currently approved collection.

Description: Pursuant to the authority of IRC section 7701(l), § 1.881-3 of the regulations provides rules that permit the district director to recharacterize, for purposes of IRC section 881, a financing arrangement among three or more persons as a financing arrangement that does not involve one or more of those persons because that person is a conduit entity.

Regulation Project Number: TD 8611.

Affected Public: Businesses and other for-profit organizations.

Estimated Number of Respondents: 1,000.

Frequency of Response: On occasion.

Estimated Total Number of Annual Responses: 1,000.

Estimated Time per Response: 10 hours.

Estimated Total Annual Burden Hours: 10,000.

10. Title: Form 5304-SIMPLE; Form 5305-SIMPLE; Notice 98-4.

OMB Control Number: 1545-1502.

Type of Request: Extension without change of a currently approved collection.

Description: Forms 5304-SIMPLE and 5305-SIMPLE are used by an employer to permit employees to make salary reduction contributions to a savings incentive match plan (SIMPLE IRA) described in Code section 408(p). These forms are not to be filed with IRS, but to be retained in the employers' records as proof of establishing such a plan, thereby justifying a deduction for contributions made to the SIMPLE IRA. The data is used to verify the deduction. Notice 98-4 provides guidance for employers and trustees regarding how they can comply with the requirements of Code section 408(p) in establishing and maintaining a SIMPLE Plan.

Form: 5304-SIMPLE, 5305-SIMPLE, and Notice 98-4.

Affected Public: Businesses and other for-profit organizations.

Estimated Number of Respondents: 600,000.

Frequency of Response: On occasion.

Estimated Total Number of Annual Responses: 600,000.

Estimated Time per Response: 3 hours, 31 minutes.

Estimated Total Annual Burden Hours: 2,113,000.

11. Title: Entity Classification Election.

OMB Control Number: 1545-1516.

Type of Request: Extension without change of a currently approved collection.

Description: An eligible entity uses Form 8832 to elect how it will be classified for federal tax purposes, as a corporation, a partnership, or an entity disregarded as separate from its owner. An eligible entity is classified for federal tax purposes under the default rules unless it files Form 8832. The IRS will use the information entered on this form to establish the entity's filing and reporting requirements for federal tax purposes.

Form: 8832.

Affected Public: Businesses and other for-profit organizations.

Estimated Number of Respondents: 50.

Frequency of Response: On occasion.

Estimated Total Number of Annual Responses: 50.

Estimated Time per Response: 7 hours, 10 minutes.

Estimated Total Annual Burden Hours: 359.

12. Title: Long-Term Care and Accelerated Death Benefits.

OMB Control Number: 1545-1519.

Type of Request: Extension without change of a currently approved collection.

Description: IRC sections 7702B and 101(g) define situations under which benefits paid under a long-term health care insurance contract and accelerated death benefits paid under a life insurance policy may qualify for special tax treatment. IRC section 6050Q requires the payer to report all such benefit amounts paid during any calendar year, specifying whether or not the benefits were paid in whole or in part on a per diem or other periodic basis without regard to expenses. Benefit payers use Form 1099-LTC to report any long-term care or accelerated death benefits paid to an individual. Payers include insurance companies, governmental units, and viatical settlement providers.

Form: 1099-LTC.

Affected Public: Businesses and other for-profit organizations.

Estimated Number of Respondents: 3,000.

Frequency of Response: Annually.

Estimated Total Number of Annual Responses: 410,600.

Estimated Time per Response: 13 minutes.

Estimated Total Annual Burden Hours: 94,438.

13. Title: Revenue Procedure 2025-4 (and Successor Guidance).

OMB Control Number: 1545-1520.

Type of Request: Revision of a currently approved collection.

Description: IRS regulation § 601.201(a)(1)) provides that it is the practice of the IRS to answer inquiries of individuals and organizations, whenever appropriate in the interest of sound tax administration, as to their status for tax purposes and as to the tax effects of their acts or transactions. Under this revenue procedure 2025-4 (and successor guidance), taxpayers can request determination letters and letter rulings from the Commissioner, Tax Exempt and Government Entities, Employee Plans Office (“Employee Plans”) on how the tax laws apply to them. Employee Plans requires information from taxpayers in order to process these requests. Form 15662 will simplify and standardize the application process for Private Letter Rulings issued under Rev. Proc. 2025-4 and its successors.

Form: 15662, Rev. Proc. 2025-4.

Affected Public: Businesses and other for-profit organizations.

Estimated Number of Respondents: 12,733.

Frequency of Response: On occasion.

Estimated Total Number of Annual Responses: 12,733.

Estimated Time per Response: 3 hours, 3 minutes.

Estimated Total Annual Burden Hours: 38,836.

14. Title: Changes in Corporate Control and Capital Structure.

OMB Control Number: 1545-1814.

Type of Request: Extension without change of a currently approved collection.

Description: Any corporation that undergoes reorganization under Regulation section 1.6043-4 with stock, cash, and other property over $100 million must file Form 1099-CAP with the IRS and shareholders.

Form: 1099-CAP.

Affected Public: Businesses and other for-profit organizations.

Estimated Number of Respondents: 300.

Frequency of Response: On occasion.

Estimated Total Number of Annual Responses: 300.

Estimated Time per Response: 11 minutes.

Estimated Total Annual Burden Hours: 54.

15. Title: Disclosure of Returns and Return Information to Designee of Taxpayer.

OMB Control Number: 1545-1816.

Type of Request: Extension without change of a currently approved collection.

Description: TD 9054 contains the final regulations relating to the disclosure of returns and return information to a designee of the taxpayer. The regulations provide guidance to IRS employees responsible for disclosing returns and return information and to taxpayers who wish to designate a person or persons to whom returns and return information may be disclosed. TD 9618 contains final regulations extending the period for submission to the IRS of taxpayer authorizations permitting disclosure of returns and return information to third party designees. Collections of information under IRC section 6103 and this final regulation (26 CFR 301.6103(c)-1), are necessary to make the disclosure requested by a taxpayer. The IRS must collect certain information such as the taxpayer's name and other identification information, the return or return information to be disclosed, and the identity of the person to whom the return or return information is to be disclosed.

Regulation Project Number: TD 9054 and TD 9618.

Affected Public: Individuals or Households.

Estimated Number of Respondents: 9,000.

Frequency of Response: On occasion.

Estimated Total Number of Annual Responses: 9,000.

Estimated Time per Response: 12 minutes.

Estimated Total Annual Burden Hours: 1,800.

16. Title: Excise Tax on Structured Settlement Factoring Transactions.

OMB Control Number: 1545-1826.

Type of Request: Extension without change of a currently approved collection.

Description: Form 8876 is used to report and pay the 40% excise tax imposed under section 5891 on the factoring discount of a structured settlement factoring transaction.

Form: 8876.

Affected Public: Businesses and other for-profit organizations.

Estimated Number of Respondents: 100.

Frequency of Response: On occasion.

Estimated Total Number of Annual Responses: 100.

Estimated Time per Response: 5 hours, 36 minutes.

Estimated Total Annual Burden Hours: 560.

17. Title: Systemic Advocacy Issue Submission.

OMB Control Number: 1545-1832.

Type of Request: Extension without change of a currently approved collection.

Description: Form 14411 is to be used by individuals, businesses, practitioners and other public groups to identify systemic problems that taxpayers are encountering with IRS. This form can be submitted electronically via the IRS.gov website, mailed, or faxed.

Form: 14411.

Affected Public: General Public.

Estimated Number of Respondents: 420.

Frequency of Response: On occasion.

Estimated Total Number of Annual Responses: 420.

Estimated Time per Response: 48 minutes.

Estimated Total Annual Burden Hours: 336.

18. Title: Revenue Procedure 2003-39, Section 1031 LKE (Like-Kind Exchanges) Auto Leasing Programs.

OMB Control Number: 1545-1834.

Type of Request: Extension without change of a currently approved collection.

Description: Revenue Procedure (Rev. Proc.) 2003-39 provides safe harbors for certain aspects of the qualification under IRC § 1031 of certain exchanges of property pursuant to Like-Kind Exchanges (LKE) Programs for federal income tax purposes. Section 5 and 6 of the Rev. Proc. 2003-39 include the third-party disclosure and recordkeeping requirements needed for the assignment of safe harbor.

Revenue Procedure Number: 2003-39.

Affected Public: Business or other for-profit organization.

Estimated Number of Respondents: 8,600.

Frequency of Response: On occasion.

Estimated Total Number of Annual Responses: 8,600.

Estimated Time per Response: 1 hour.

Estimated Total Annual Burden Hours: 8,600.

19. Title: Reducing Tax Burden on America's Taxpayers.

OMB Control Number: 1545-2009.

Type of Request: Extension without change of a currently approved collection.

Description: Form 13285-A is used by taxpayers and external partners and stakeholders to identify meaningful taxpayer burden reduction opportunities. Employees will make the forms available at education and outreach events.

Form: 13285-A.

Affected Public: General Public.

Estimated Number of Respondents: 250.

Frequency of Response: On occasion.

Estimated Total Number of Annual Responses: 250.

Estimated Time per Response: 15 minutes.

Estimated Total Annual Burden Hours: 62.

20. Title: Obligations Principally Secured by an Interest in Real Property.

OMB Control Number: 1545-2110.

Type of Request: Extension without change of a currently approved collection.

Description: This collection covers final regulations under section 1.860G-2 that expand the list of permitted loan modifications to include certain modifications that are often made to commercial mortgages. The collection of information in this regulation is in section 1.860G-2(b) (7). To establish that the 80-percent test is met at the time of modification, the servicer must obtain an appraisal or some other form of commercially reasonable valuation (the appraisal requirement). This information is required to show that modifications to mortgages permitted will not cause the modified mortgage to cease to be a qualified mortgage.

Regulation Project Number: TD 9463.

Affected Public: Business or other for-profit organization.

Estimated Number of Respondents: 375.

Frequency of Response: On occasion.

Estimated Total Number of Annual Responses: 375.

Estimated Time per Response: 8 hours.

Estimated Total Annual Burden Hours: 3,000.

21. Title: Application for Group or Pooled Trust Ruling.

OMB Control Number: 1545-2166.

Type of Request: Extension without change of a currently approved collection.

Description: Group/pooled trust sponsors file this form to request a determination letter from the IRS for a determination that the trust is a group trust arrangement as described in Rev. Rul. 81-100, 1981-1 C.B. 326 as modified and clarified by Rev. Rul. 2004-67, 2004-28 I.R.B. 28, as modified by Rev. Rul. 2011-1, 2011-2, I.R.B. 251, and as modified by Rev. Rul. 2014-24, 2014-37 I.R.B. 529, and section 336(e) of the Protecting Americans from Tax Hikes Act of 2015, Public Law 114-113.

Form: 5316.

Affected Public: Business or other for-profit organization.

Estimated Number of Respondents: 200.

Frequency of Response: On occasion.

Estimated Total Number of Annual Responses: 200.

Estimated Time per Response: 14 hours, 6 minutes.

Estimated Total Annual Burden Hours: 2,820 hours.

(Authority: 44 U.S.C. 3501 et seq.)

Spencer W. Clark,
Treasury PRA Clearance Officer.

[FR Doc. 2025-18669 Filed 9-24-25; 8:45 am]

BILLING CODE 4830-01-P